DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

Docket Number FRA-2006-25266

Applicant: Union Pacific Railroad Company, Mr. W. E. VanTrump, Assistant Vice President Engineering Maintenance, 1400 Douglas Street, Mail Stop 0910, Omaha, Nebraska 68179.

The Union Pacific Railroad Company (UP) seeks approval of the proposed discontinuance and removal of the traffic control system on UP's Tennessee Pass Subdivision between milepost 341.9, near Dotsero, Colorado (not including Dotsero) and milepost 296.4, near West Belden, Colorado. The project is in connection with a limited reopening of the inactive trackage between MP 334.6 and MP 296.6. The proposed changes consist of the following:

1. Discontinue the use of a total of 46 signals on the Dotsero to West Belden line segment. The heads of the discontinued signals will be turned and bagged, and the signals ultimately removed.

2. The home signal at Dotsero, located on the Tennessee Pass Subdivision at the junction with the Glenwood Springs Subdivision, will remain in service with an operative distant signal installed in accordance with 49 CFR Part 236. Signage stating “End Of CTC” and “Beginning of CTC” will be installed at appropriate locations near Dotsero.

3. Existing power-operated switches within the project limits will be converted to hand-throw switches with reflectorized targets.

4. The existing slide detector fences at mileposts 341.1, 319.1 and 303.7 will be restored to service, and converted to radio talking devices.

5. Train and other movements will be authorized and controlled by Track Warrant Control in accordance with established operating procedures, subject to a maximum operating speed of 25 mph.

6. The four signalized rail/highway grade crossings within the project limits will not be adversely affected by the proposed changes. The grade crossing warning systems on the two rail/highway crossings on the out-of-service portion of the line at Wolcott (S. H. 131), milepost 318.9, and Mintum (YMCA Road), milepost 301.6, will be made operational and compliant with Part 234 before train service is restored on this portion of the line.

The reason given for the proposed changes is that, due to significant changes in traffic and operations, a signal system is no longer required. Additionally, the signal system on the line segment east of MP 334.6 is not operational, and the system would likely have to be replaced to make it operational.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on August 1, 2006.
Grady C. Cothen, Jr.,
Deputy Associate Administrator for Safety, Standards and Program Development.

[FR Doc. E6-12801 Filed 8-7-06; 8:45 am]

BILLING CODE 4910-06-P